DEPARTMENT OF HEALTH AND HUMAN SERVICES

Centers for Disease Control and Prevention

Notice of Award of a Single Source Cooperative Agreement To Fund Tuskegee University

AGENCY: Centers for Disease Control and Prevention (CDC), Department of Health and Human Services (HHS).

ACTION: Notice.

SUMMARY: The Centers for Disease Control and Prevention (CDC), located within the Department of Health and Human Services (HHS), announces the award of approximately $320,000.00, with an expected total funding of approximately $1,600,000.00 over a 5-year period, to Tuskegee University. The award will enhance ethical public health practice through educational activities geared towards professionals and students in schools of public health particularly from Historically Black Colleges and Universities (HBCU) and other minority serving institutions such as Hispanic-Serving Institutions (HSI), Tribal Colleges and Universities (TCU), and Asian American and Native American Pacific Islander-Serving Institutions (AANAPISI).

DATES: The period for this award will be January 1, 2025 through December 31, 2030.

FOR FURTHER INFORMATION CONTACT: Norman A. Hayes, National Center for HIV, Viral Hepatitis, STD, and TB Prevention (NCHHSTP). Centers for Disease Control and Prevention, 1600 Clifton Road NE, (H24-4), Atlanta, GA 30333, Telephone: (404) 639-8991, email: Nhayes3@cdc.gov

SUPPLEMENTARY INFORMATION: The purpose of this notice of funding opportunity (hereafter referred to as program) is to enhance ethical public health practice through educational activities geared towards professionals and students in schools of public health particularly from Historically Black Colleges and Universities (HBCUs) and other minority serving institutions such as Asian American and Native American Pacific Islander-Serving Institutions (AANAPISI); Hispanic-Serving Institutions (HSI); Tribal Colleges and Universities (TCU). CDC has supported public health ethics education (formerly known as the Bioethics program) since 1999 in response to the unethical syphilis study at Tuskegee and its implications to public health, and continuing needs for understanding complex ethical issues in public health. The program will require to implement the following integrated strategies/components: Curriculum Development, Intensive Public Health Ethics (PHE) Training, Mentorship, Partnership Building, USPHS Study of Untreated Syphilis at Tuskegee Commemoration, and Dissemination and geared towards populations who have been affected by unethical research.

Tuskegee University is in a unique position to conduct this work, as its goals: (1) conduct research, scholarship, and training in public health ethics and bioethics for under-served populations; (2) educate students, faculty, scholars, and the general public about public health ethics issues to improve public health services to under-served populations; (3) promote racial/ethnic and geographic diversity in the field of public health ethics and bioethics; and (4) facilitate effective community partnerships to address inequities in health and health care and support health promotion for all Americans closely align with the purpose and goals of this program. Additionally, Tuskegee University's prior experience developing a public health ethics curriculum, facilitating a public health ethics intensive training, and make it the best suited institution to carry out the strategies and activities of this program.

Summary of the award:

Recipient: Tuskegee University

Purpose of the Award: The purpose of this award is to enhance ethical public health practice through educational activities geared towards professionals and students in schools of public health particularly from Historically Black Colleges and Universities (HBCUs) and other minority serving institutions such as Asian American and Native American Pacific Islander-Serving Institutions (AANAPISI); Hispanic-Serving Institutions (HSI); Tribal Colleges and Universities (TCU). CDC has supported public health ethics education (formerly known as the Bioethics program) since 1999 in response to the unethical syphilis study at Tuskegee and its implications to public health, and continuing needs for understanding complex ethical issues in public health. The program will require to implement the following integrated strategies/components: Curriculum Development, Intensive Public Health Ethics (PHE) Training, Mentorship, Partnership Building, USPHS Study of Untreated Syphilis at Tuskegee Commemoration, and Dissemination and geared towards populations who have been affected by unethical research.

Amount of Award: $320,000.00 in Federal Fiscal Year (FFY) 2025 funds, with a total estimated $1,600,000.00 for the 5-year period of performance, subject to availability of funds.

Authority: This program is authorized under section 301(a) of the Public Health Service Act (42 U.S.C. 241(a)) and 318 (a)(b)(c) of the Public Health Service Act [42 U.S.C. 247c (a)(b) and (c)] as amended. Regulations governing the implementation of this legislation are covered under 42 CFR part 51b, subpart A.

Period of Performance: January 1, 2025 through December 31, 2030.

Dated: June 27, 2024.
Jamie Legier,
Acting Director, Office of Grants Services, Centers for Disease Control and Prevention.

[FR Doc. 2024-14621 Filed 7-2-24; 8:45 am]

BILLING CODE 4163-18-P